DEPARTMENT OF DEFENSE

Department of the Army

Army Science Board; Notice of Open Meeting

In accordance with section 10(a)(2) of the Federal Advisory Committee Act (P.L. 92-463), announcement is made of the following Committee Meeting:

Name of Committee: Army Science Board (ASB) Analysis Panel.

Date of Meeting: 12-13 July 2001.

Time of Meeting: 0900-1700.

Places: RAND (Los Angeles, CA).

Agenda: The Analysis Panel of the Army Science Board's (ASB) Summer Study will visit RAND and meet from 0900-1700 each day with the following agenda items:

Demonstration of scenarios

Discussion of emerging findings (will be available in documented briefing form)

Insights from other studies

Discussion of modeling requirements (Janus, JCATS, OneSAF, other)

MOUT implications

Panel discussions/directions

These meetings will be open to the public. Any interested person may attend, appear before, or file statements with the committee at the time and in the manner permitted by the committee.

FOR FURTHER INFORMATION CONTACT: Karen Williams at (407) 384-3937.

Wayne Joyner,
Executive Assistant, Army Science Board.

[FR Doc. 01-17006 Filed 7-6-01; 8:45 am]

BILLING CODE 3710-08-M